DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (http://www.treasury.gov/ofac).

Notice of OFAC Actions

On April 6, 2018, OFAC determined that the property and interests in property subject to U.S. jurisdiction of the following persons are blocked under the relevant sanctions authority listed below.

Individuals

1. PEREZ ALVEAR, Jesus (a.k.a. “Chucho Perez”), Guerrero, Mexico; DOB 12 Nov 1984; POB Distrito Federal, Mexico; nationality Mexico; Gender Male; R.F.C. PEAJ-841112-UD1 (Mexico); C.U.R.P. PEAJ841112HDFRLS06 (Mexico) (individual) [SDNTK] (Linked To: CARTEL DE JALISCO NUEVA GENERACION; Linked To: LOS CUINIS; Linked To: GALLISTICA DIAMANTE). Designated pursuant to section 805(b)(2) of the Foreign Narcotics Kingpin Designation Act (“Kingpin Act”), 21 U.S.C. 1904(b)(2), for materially assisting in, or providing financial support for or to, or providing goods or services in support of, the international narcotics trafficking activities of the CARTEL DE JALISCO NUEVA GENERACION and LOS CUINIS; designated pursuant to section 805(b)(3) of the Kingpin Act, 21 U.S.C. 1904(b)(3), for being directed by, or acting for or on behalf of, the CARTEL DE JALISCO NUEVA GENERACION and LOS CUINIS.

2. LEONE MARTINEZ, Miguel Jose (a.k.a. LEONE, Miguel), Severo Diaz 38, Col. Ladron de Guevara, Guadalajara, Jalisco 44600, Mexico; DOB 16 May 1980; citizen Italy; alt. citizen Venezuela; website www.miguelleone.com; Gender Male; Passport YA1867648 (Italy) (individual) [SDNTK] (Linked To: LOS CUINIS). Designated pursuant to section 805(b)(3) of the Kingpin Act, 21 U.S.C. 1904(b)(3), for being directed by, or acting for or on behalf of, LOS CUINIS and Abigael GONZALEZ VALENCIA.

Entity

1. GALLISTICA DIAMANTE (a.k.a. GALLISTICA DIAMANTE S.A. DE C.V.; a.k.a. TICKET PREMIER), Aguascalientes, Aguascalientes, Mexico; Quinta Los Pirules Num. Ext. 182, Quinta Los Naranjos, Leon, Guanajuato 37210, Mexico; website www.ticketpremier.mx [SDNTK]. Designated pursuant to section 805(b)(3) of the Kingpin Act, 21 U.S.C. 1904(b)(3), for being owned, controlled, or directed by, or acting for or on behalf of, Jesus PEREZ ALVEAR.

Dated: April 6, 2018.
Andrea M. Gacki,
Acting Director, Office of Foreign Assets Control.

[FR Doc. 2018-07447 Filed 4-10-18; 8:45 am]

BILLING CODE 4810-AL-P